DEPARTMENT OF COMMERCE

Census Bureau

Proposed Information Collection; Comment Request; 2011 Business R&D and Innovation Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before July 18, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to Richard Hough, U.S. Census Bureau, MCD HQ-7K150A, 4600 Silver Hill Rd., Suitland, MD 20746, (301) 763-4823 (or via the Internet at richard.s.hough@census.gov).

SUPPLEMENTARY INFORMATION:

I. Abstract

The U.S. Census Bureau, with support from the National Science Foundation (NSF), plans to conduct the Business R&D and Innovation Survey (BRDIS) for the 2011 survey year. The BRDIS provides the only comprehensive data on R&D expense covering all domestic non-farm businesses and detailed expenses by type and industry.

The Census Bureau has conducted the Survey of Industrial Research and Development (SIRD) since 1957, collecting primarily financial information on the systematic work companies were undertaking with the goal of discovering new knowledge or using existing knowledge to develop new or improved goods and services. More recently, prompted by recommendations from the 2005 Committee on National Statistics (CNSTAT) Report, Measuring Research and Development Expenditures in the U.S. Economy, the NSF and Census Bureau began a full-scale redesign of the SIRD. The goal of the redesign was to produce high-quality; relevant data on R&D in the business sector that took into account the changing reality of R&D and innovation.

An inter-agency team evaluated the need for different types of data as well as the availability of those data within company records. This evaluation resulted in the fielding of the 2008 BRDIS as a full scale pilot survey. The team used the results of the pilot to make improvements for the 2009/2010 BRDIS cycles. The 2011 BRDIS will continue to collect the following types of information:

• R&D expense based on accounting standards.

• Worldwide R&D of domestic companies.

• Business segment detail.

• R&D related capital expenditures.

• Detailed data about the R&D workforce.

• R&D strategy and data on the potential impact of R&D on the market.

• R&D directed to application areas of particular national interest.

• Data measuring innovation, intellectual property protection activities and technology transfer.

The BRDIS utilizes a booklet instrument that facilitates the obtaining of information from various contacts within each company that have the best understanding of the concepts and definitions being presented as well as access to the information necessary to provide the most accurate response. The sections of the booklet have been defined by grouping questions based on subject matter areas within the company and currently include: A company information section that includes detailed innovation questions; a financial section focused on company R&D expenses; a human resources section; an R&D strategy and management section; an IP and technology transfer section; and a section focused on R&D that is funded or paid for by third parties. A Web instrument is also available to the companies. The Web instrument incorporates the use of Excel spreadsheets that are provided to facilitate the electronic collection of information within the companies. Companies have the capability to download the spreadsheets from the Census Bureau's Web site; the Census Bureau also provides a spreadsheet that is programmed to consolidate the information for the companies so the company can simply upload this information into the Web instrument.

II. Method of Collection

The Census Bureau will use mail out/mail back survey forms and a Web-based collection. Companies will be asked to respond within 60 days of the initial mail out.

III. Data

OMB Control Number: 0607-0912.

Form Number: BRDI-1 & BRDI-1A. You can obtain information on the proposed content at this Web site: http://www.census.gov/mcd/clearance.

Type of Review: Regular submission.

Affected Public: All for-profit, public or private, non-farm companies with 5 or more employees.

Estimated Number of Respondents:

BRDI-1—(Long Form) 3,000

BRDI-1A—(Short Form) 40,000

Total 43,000

Estimated Time per Response:

BRDI-1—(Long Form) 14.3 hrs

BRDI-1A—(Short Form) 2.2 hrs

Estimated Total Annual Burden Hours: 130,900.

Estimated Total Annual Cost: The estimated cost to the respondents is $4,243,778.

Respondents Obligation: Mandatory.

Legal Authority: Title 13 U.S.C. Section 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 12, 2011.
Glenna Mickelson,
Management Analyst, Office of the Chief Information Officer.

[FR Doc. 2011-12136 Filed 5-17-11; 8:45 am]

BILLING CODE 3510-07-P